DEPARTMENT OF THE INTERIOR

Fish and Wildlife Service

[FWS-R3-ES-2013-N184; FXES11130300000-134-FF03E00000]

Approved Recovery Plan for the Dwarf Lake Iris

AGENCY: Fish and Wildlife Service, Interior.

ACTION: Notice of document availability.

SUMMARY: We, the U.S. Fish and Wildlife Service (Service), announce the availability of the approved recovery plan for the dwarf lake iris (Iris lacustris), a species that is federally listed as threatened under the Endangered Species Act of 1973 (Act), as amended (16 U.S.C. 1531 et seq.). This plan includes specific recovery objectives and criteria to achieve removal of the species from the protections of the Act.

ADDRESSES: You may obtain a copy of the recovery plan by sending a request to Field Supervisor, U.S. Fish and Wildlife Service, Ecological Services Field Office, 2651 Coolidge Road, Suite 101, East Lansing, MI 48823 (printed copies will be available for distribution within 4 to 6 weeks) or by accessing our Web site at http://midwest.fws.gov/Endangered.

FOR FURTHER INFORMATION CONTACT: Ms. Barbara Hosler, at the above address or by telephone at (517) 351-6326. TTY users may contact Ms. Hosler through the Federal Relay Service at (800) 877-8339.

SUPPLEMENTARY INFORMATION:

Background

Restoring an endangered or threatened animal or plant to the point where it is again a secure self-sustaining member of its ecosystem is a primary goal of the Service's endangered species program. To help guide the recovery effort, we are working to prepare recovery plans for most of the federally listed threatened and endangered species native to the United States. Recovery plans describe actions considered necessary for conservation of the species, establish criteria for reclassification and delisting, and provide estimates of the time and costs for implementing the recovery measures needed.

The Act requires the development of recovery plans for listed species unless such a plan would not promote the conservation of a particular species. Section 4(f) of the Act, as amended in 1988, requires public notice and opportunity for public review and comment during recovery plan development. We provided the draft dwarf lake iris recovery plan to the public and solicited comments from May 30, 2012, through June 29, 2012 (77 FR 31869). We considered information we received during the public comment period and information from peer reviewers in our preparation of the recovery plan, and also summarized that information in Appendix 7 of this approved recovery plan.

The dwarf lake iris was listed as threatened on October 28, 1988, under the provisions of the Endangered Species Act of 1973, as amended. The species grows along the northern shorelines of Lakes Michigan and Huron in Wisconsin, Michigan, and Ontario, Canada. Of 167 known occurrences, many lie on private property where awareness of the species' presence and significance is limited. Direct loss of plants and habitat is continuing, and is expected to accelerate due to the high demand of shoreline properties for development and recreation.

Dwarf lake iris typically grows in shallow soil over moist calcareous sands, gravel, and beach rubble. Sunlight is one of the most critical factors to the growth and reproduction of the species, and partly shaded or sheltered forest edges are optimal for sexual reproduction. Some form of disturbance is also required to maintain the forest openings that provide these partial shade conditions. The species is most often associated with shoreline coniferous forests dominated by northern white cedar and balsam fir. The principal limiting factor for dwarf lake iris is the availability of this suitable shoreline habitat.

The principal recovery strategy is to conserve the habitat that supports dwarf lake iris populations by implementing a variety of protection strategies, including landowner notification, education, and the preparation of management and monitoring plans. Additional efforts will focus on improving the baseline understanding of dwarf lake iris ecology. Outreach materials will be developed to improve awareness of the species' presence and its status as a threatened species.

The dwarf lake iris will be considered for delisting when the likelihood of the species becoming threatened in the foreseeable future has been eliminated by the achievement of three criteria:

Criterion 1. The species has a 95-percent probability of persistence within the next 20 years, based on data obtained from accepted standardized monitoring methods and on population viability analysis. In order to meet this criterion, the following must be verified: 1.a. There is a sufficient number and geographical distribution of element occurrences required to ensure long-term persistence, and 1.b. Each element occurrence needed to ensure a 95-percent probability of persistence within the next 20 years must meet a minimum viable population size and exhibit an increasing or stable population trend over a 10-year period.

Criterion 2. Management plans have been developed and are being implemented to protect and manage the habitat associated with the element occurrences identified in Criterion 1.b.

Criterion 3. A plan to provide public outreach and education for dwarf lake iris has been developed and is being implemented. Additional detail on these delisting criteria is available in the draft recovery plan.

We will achieve these criteria through the following actions: (1) Protect occurrences; (2) Manage and restore habitat; (3) Inventory and monitor known sites; (4) Conduct population viability analysis; (5) Develop an education program about dwarf lake iris, other federally listed shoreline species, natural communities, and their protection and management; (6) Improve understanding of baseline dwarf lake iris ecology; and (7) Review and track recovery progress.

Authority: Section 4(f) of the Endangered Species Act, 16 U.S.C. 1533(f).

Dated: August 30, 2013.
Lynn M. Lewis,
Assistant Regional Director, Ecological Services, Region 3.

[FR Doc. 2013-21921 Filed 9-9-13; 8:45 am]

BILLING CODE 4310-55-P